DEPARTMENT OF HEALTH AND HUMAN SERVICES

Food and Drug Administration

[Docket No. FDA-2018-D-3462]

Verification Systems Under the Drug Supply Chain Security Act for Certain Prescription Drugs; Draft Guidance for Industry; Correction

AGENCY: Food and Drug Administration, Department of Health and Human Services (HHS).

ACTION: Notice; correction.

SUMMARY: The Food and Drug Administration (FDA) is correcting a notice entitled “Verification Systems Under the Drug Supply Chain Security Act for Certain Prescription Drugs; Draft Guidance for Industry” that appeared in the Federal Register of March 10, 2022. The document omitted the date by which comments on the draft guidance should be submitted to FDA. This error is corrected in this document for clarity.

FOR FURTHER INFORMATION CONTACT: Sarah Venti, Office of Compliance, Center for Drug Evaluation and Research, Food and Drug Administration, 10903 New Hampshire Ave., Silver Spring, MD 20993-0002, 301-796-3130, drugtrackandtrace@fda.hhs.gov.

SUPPLEMENTARY INFORMATION: In the Federal Register of March 10, 2022 (87 FR 13738), appearing on page 13738, in FR Doc. 2022-05018, in the second column, the DATES section is corrected to read as follows:

DATES: The announcement of the guidance is published in the Federal Register on March 10, 2022. Although you can comment on any guidance at any time (see 21 CFR 10.115(g)(5)), to ensure that the Agency considers your comment on this draft guidance before it begins work on the final version of the guidance, submit either electronic or written comments on the draft guidance by May 9, 2022.

Dated: March 17, 2022.
Andi Lipstein Fristedt,
Deputy Commissioner for Policy, Legislation, and International Affairs, U.S. Food and Drug Administration.

[FR Doc. 2022-06006 Filed 3-21-22; 8:45 am]

BILLING CODE 4164-01-P